Title 3—

The President

Proclamation 8313 of October 30, 2008

National American Indian Heritage Month, 2008

By the President of the United States of America

A Proclamation

During National American Indian Heritage Month, we celebrate the rich ancestry of American Indians and Alaska Natives and recognize their many contributions to our national story.

Native Americans have enriched our heritage and added to all aspects of our society. Our country is blessed to have their character and strength, and we are especially grateful for the generations of Native Americans who have answered the call to defend our country. During World War II, these brave patriots used their native languages to create an unbreakable oral code. Today, that legacy continues as Native Americans work to advance freedom's cause.

My Administration remains committed to protecting tribal sovereignty and the right to self-determination and to working with tribes on a government-to-government basis. To help more Native Americans realize the dream of home ownership, I signed the Native American Housing Assistance and Self-Determination Reauthorization Act of 2008. For nearly eight years, we have also worked to strengthen educational opportunities for all Americans. In 2004, I issued an executive order to help Native American students fulfill the challenging standards of the No Child Left Behind Act. This order established the Interagency Working Group on American Indian and Alaska Native Education to improve educational programs consistent with tribal traditions, languages, and cultures. By setting high standards for academic achievement, we are enabling more Americans throughout our country to pursue their dreams. During this month, we honor our native peoples and recognize them for strengthening the diversity of our society.

NOW, THEREFORE, I, GEORGE W. BUSH, President of the United States of America, by virtue of the authority vested in me by the Constitution and laws of the United States, do hereby proclaim November 2008 as National American Indian Heritage Month. I call upon all Americans to commemorate this month with appropriate programs and activities.

IN WITNESS WHEREOF, I have hereunto set my hand this thirtieth day of October, in the year of our Lord two thousand eight, and of the Independence of the United States of America the two hundred and thirty-third.

[FR Doc. E8-26351

Filed 10-31-08; 11:15 am]

Billing code 3195-W9-P